FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 3597N.

Name: Unit International of Miami, Inc. dba Unit Express.

Address: 8381 NW. 68th Street, Miami, FL 33166.

Date Revoked: October 5, 2010.

Reason: Surrendered license voluntarily.

License Number: 4190F.

Name: Renganathan, Kasi.

Address: 225 Stoney Ridge Drive, Alpharetta, GA 30022.

Date Revoked: October 1, 2010.

Reason: Failed to maintain a valid bond.

License Number: 018888N.

Name: Ship Smart, Inc.

Address: 69 Le Fante Way, Bayonne, NJ 07002.

Date Revoked: October 1, 2010.

Reason: Failed to maintain a valid bond.

License Number: 019201F.

Name: Hidayat I. Shaikh dba Asiapac Freight Forwarding & Supply Chain Management dba Baobao Shipping Co.

Address: 4210 Solar Circle, Union City, CA 94587.

Date Revoked: October 1, 2010.

Reason: Failed to maintain a valid bond.

License Number: 019573NF.

Name: Longron Corporation dba Time Logistics.

Address: 5415 Hilton Avenue, Temple City, CA 91780.

Dates Revoked: September 14, 2010 and October 11, 2010.

Reason: Failed to maintain valid bonds.

License Number: 021519NF.

Name: Transatlantic ARC LLC.

Address: 415 Madison Avenue, Suite 1404, New York, NY 10017.

Date Revoked: October 1, 2010.

Reason: Failed to maintain valid bonds.

License Number: 021755NF.

Name: Gly Expo Logistics Inc.

Address: 200 West Devon Avenue, Suite 5, Bensenville, IL 60106.

Date Revoked: October 8, 2010.

Reason: Failed to maintain valid bonds.

License Number: 021757N.

Name: Champion Xpress Shipping Inc.

Address: 106-13 Liberty Avenue, Ozone, NY 11417.

Date Revoked: October 7, 2010.

Reason: Failed to maintain a valid bond.

License Number: 022320N.

Name: Synergetic Specialty Logistics Inc. dba “Mabuhey! A Balikbayan Box Service.”

Address: 660 Fargo Avenue, Elk Grove Village, IL 60007.

Date Revoked: October 8, 2010.

Reason: Failed to maintain a valid bond.

Sandra L. Kusumoto,
Director, Bureau of Certification and Licensing.

[FR Doc. 2010-27204 Filed 10-26-10; 8:45 am]

BILLING CODE 6730-01-P